DEPARTMENT OF THE INTERIOR

Bureau of Land Management

[ES-915-1220-PM]

Notice of Proposed Supplementary Rules for Meadowood Special Recreation Management Area, Fairfax County, VA

AGENCY: Bureau of Land Management, Interior.

ACTION: Notice of proposed supplementary rules for Visitor Use and Permits—Bureau of Land Management-Eastern States (BLM-ES), Springfield, Virginia.

SUMMARY: These proposed supplementary rules, applicable to specified public lands administered by BLM, would implement the management decisions made in the Meadowood Farm Proposed Program Analysis/Environmental Assessment, and the Meadowood Integrated Activity Management Plan for the Meadowood Special Recreation Management Area (SRMA). The purposes of the proposed supplementary rules are to protect natural resources and provide for the safety of visitors and property on public land located in Fairfax County, Virginia.

DATES: Comments on the proposed supplementary rules must be received or postmarked by August 29, 2005 to be assured consideration. In developing final supplementary rules, BLM may not consider comments postmarked or received in person or by electronic mail after this date.

ADDRESSES: Comments may be mailed or hand-delivered to the BLM-ES Lower Potomac Field Station, 10406 Gunston Road, Lorton, Virginia 22079. You may also comment via Internet e-mail to: jeff_mccusker@es.blm.gov.

FOR FURTHER INFORMATION CONTACT: Gary Cooper, BLM-ES, Lower Potomac Field Station Manager, 10406 Gunston Road, Lorton, Virginia 22079, at (703) 339-8009.

SUPPLEMENTARY INFORMATION:

I. Public Comment Procedures

Written comments on the proposed supplementary rules should be specific, confined to issues pertinent to the proposed supplementary rules, and should explain the reason for any recommended change. Where possible, comments should reference the specific section or paragraph of the proposal which the comment is addressing. The comments that the BLM receives after the close of the comment period (see DATES), unless they are postmarked or electronically dated before the deadline, or comments delivered to an address not listed above (see ADDRESSES), may not be considered or included in the Administrative Record for the final rule.

Comments, including names, street addresses, and other contact information of respondents, will be available for public review at the BLM-ES Lower Potomac Field Station, 10406 Gunston Road, Lorton, Virginia 22079, during regular business hours, 8 a.m. to 4 p.m., Monday through Friday, except Federal holidays. Individual respondents may request confidentiality. If you wish to request that the BLM consider withholding your name, street address, and other contact information (such as internet address, fax, or phone number) from public review or from disclosure under the Freedom of Information Act, you must state this prominently at the beginning of your comment. The BLM will honor requests for confidentiality on a case-by-case basis to the extent allowed by law. The BLM will make available for public inspection in their entirety all submissions from organizations or businesses and their representatives or officials.

II. Background

The BLM-ES Lower Potomac Field Station staff has developed the supplementary rules listed below to implement the management decisions made in the Meadowood Farm Proposed Program Analysis/Environmental Assessment, and the Meadowood Integrated Activity Management Plan for the Meadowood SRMA. These plans were both developed through a series of public meetings, and public comment and appeal periods were allowed. No protests or appeals were received on the decisions in either document. Upon publication of these supplementary rules in final form, the Meadowood SRMA will be fully open for the uses and purposes identified in the Meadowood Farm Proposed Program Analysis/Environmental Assessment, and the Meadowood Special Recreation Management Area Integrated Activity Management Plan/Environmental Assessment. The publication of this rule will also rescind the temporary closure of these public lands as provided in a Federal Register notice on October 22, 2001 (66 FR 53431).

III. Procedural Matters

Executive Order 12866, Regulatory Planning and Review

These proposed supplementary rules do not constitute a significant regulatory action and are not subject to review by the Office of Management and Budget under Executive Order 12866. The proposed supplementary rules will not have an effect of $100 million or more on the economy. They will not adversely affect in a material way the economy, productivity, competition, jobs, the environment, public health or safety, or state, local, or Tribal governments or communities. These proposed supplementary rules will not create a serious inconsistency or otherwise interfere with an action taken or planned by another agency. They do not alter the budgetary effects of entitlements, grants, user fees, or loan programs or the rights or obligations of their recipients, nor do they raise novel legal or policy issues. They merely impose rules of conduct and impose other limitations on certain recreational activities on certain public lands to protect natural resources and human health and safety.

Clarity of the Supplementary Rules

Executive Order 12866 requires each agency to write regulations that are simple and easy to understand. We invite your comments on how to make these proposed supplementary rules easier to understand, including answers to questions such as the following: (1) Are the requirements in the proposed supplementary rules clearly stated? (2) Do the proposed supplementary rules contain technical language or jargon that interferes with their clarity? (3) Does the format of the proposed supplementary rules (grouping and order of sections, use of headings, paragraphing, etc.) aid or reduce their clarity? (4) Would the supplementary rules be easier to understand if they were divided into more (but shorter) sections? (5) Is the description of the proposed supplementary rules in the SUPPLEMENTARY INFORMATION section of this preamble helpful to your understanding of the proposed supplementary rules? How could this description be more helpful in making the proposed supplementary rules easier to understand? Please send any comments you have on the clarity of the supplementary rules to the address specified in the ADDRESSES section.

National Environmental Policy Act

BLM has prepared an Environmental Assessment (EA), the Meadowood Farm Proposed Program Analysis/Environmental Assessment, and has found that the proposed supplementary rules would not constitute a major Federal action significantly affecting the quality of the human environment under Section 102(2)(C) of the National Environmental Policy Act of 1969 (NEPA), 42 U.S.C. 4332(2)(C). A detailed statement under NEPA is not required. The BLM has placed the EA and the Finding of No Significant Impact (FONSI) on file in the BLM Administrative Record at the address specified in the ADDRESSES section. The BLM invites the public to review these documents.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These proposed supplementary rules should have no effect on business entities of whatever size. They merely would impose reasonable restrictions on certain recreational activities on certain public lands to protect natural resources and the environment, and human health and safety. Therefore, BLM has determined under the RFA that these proposed supplementary rules would not have a significant economic impact on a substantial number of small entities.

Small Business Regulatory Enforcement Fairness Act (SBREFA)

These proposed supplementary rules do not constitute a “major rule” as defined at 5 U.S.C. 804(2). They would not result in an annual effect on the economy of $100 million or more, in an increase in costs or prices, or in significant adverse effects on competition, employment, investment, productivity, innovation, or on the ability of United States-based enterprises to compete with foreign-based enterprises in domestic and export markets. They would merely impose reasonable restrictions on certain recreational activities on certain public lands to protect natural resources and the environment, and human health and safety.

Unfunded Mandates Reform Act

These proposed supplementary rules do not impose an unfunded mandate on State, local, or tribal governments or on the private sector of more than $100 million per year; nor do these proposed supplementary rules have a significant or unique effect on State, local, or tribal governments or the private sector. They would merely impose reasonable restrictions on certain recreational activities on certain public lands to protect natural resources and the environment, and human health and safety. Therefore, the BLM is not required to prepare a statement containing the information required by the Unfunded Mandates Reform Act (2 U.S.C. 1531 et seq.).

Executive Order 12630, Governmental Actions and Interference With Constitutionally Protected Property Rights (Takings)

The proposed supplementary rules do not represent a government action capable of interfering with constitutionally protected property rights. The proposed supplementary rules would have no effect on private lands or property. Therefore, the Department of the Interior has determined that the rule would not cause a taking of private property or require preparation of a takings assessment under this Executive Order.

Executive Order 13132, Federalism

The proposed supplementary rules would not have a substantial direct effect on the states, on the relationship between the national government and the states, or on the distribution of power and responsibilities among the various levels of government. The proposed supplementary rules would have no effect on state or local government. Therefore, in accordance with Executive Order 13132, the BLM has determined that these proposed supplementary rules do not have sufficient federalism implications to warrant preparation of a federalism assessment.

Executive Order 12988, Civil Justice Reform

Under Executive Order 12988, the Office of the Solicitor determined that these proposed supplementary rules would not unduly burden the judicial system and that they meet the requirements of sections 3(a) and 3(b)(2) of the Order.

Executive Order 13175, Consultation and Coordination With Indian Tribal Governments

In accordance with Executive Order 13175, we have found that these proposed supplementary rules do not include policies that have tribal implications.

Paperwork Reduction Act

These proposed supplementary rules do not contain information collection requirements that the Office of Management and Budget must approve under the Paperwork Reduction Act of 1995, 44 U.S.C. 3501 et seq.

Author

The principal author of these proposed supplementary rules is Gary Cooper, Lower Potomac Field Station Manager, Eastern States, Bureau of Land Management.

For the reasons stated in the preamble and under the authorities for supplementary rules found under 43 CFR 8341.2, 8364.1, and 8365.1-6, and 43 U.S.C. 1740, the State Director, Eastern States, Bureau of Land Management, proposes to issue supplementary rules for public lands managed by the BLM in the Lower Potomac Field Station area to read as follows:

Supplementary Rules for Certain Public Lands Managed by the Lower Potomac Field Station Office, Bureau of Land Management

Prohibited Acts within the Meadowood Special Recreation Management Area (SRMA) boundary:

1. You must not hunt unless you are participating in a managed hunt following Commonwealth of Virginia hunting regulations, and planned by the Lower Potomac Field Station Manager (LPFSM).

2. You must not use fireworks or explosive devices.

3. You must not enter the Meadowood SRMA between sunset and sunrise unless you have a contract or other written permission to board or maintain horses at Meadowood. Between sunset and sunrise, persons with a boarding contract and their accompanied guests and other persons authorized by the LPFSM may enter the boarding facilities and adjacent pastures at 10406 Gunston Road only.

4. You must not swim or bathe in the ponds or streams.

5. You must not operate motorized vehicles or devices in the SRMA unless authorized by the LPFSM, except for the following established roads:

a. From Old Colchester Road to the control line flying circles in the west parcel.

b. From Belmont Boulevard to the visitor parking area.

c. From Gunston Road to the parking areas at the horse barn and the BLM compound. These parking areas are designated for BLM employees and contractors, visitors to the Lower Potomac Field Station Office, boarders, or their guests only.

6. You must not enter the fenced pastures at 10406 Gunston Road unless you have a contract or other written permission to board or maintain horses at Meadowood.

7. You must not enter into any area posted as closed to entry or use.

8. You must not camp unless authorized by the LPFSM.

9. You must not use a bicycle except on the roads identified above and on designated trails.

10. You must not store fuel or accelerants.

11. You must not use control line model airplanes outside of times and places designated by the LPFSM.

12. You must not use model rockets or explosive devices.

13. You must not use or possess weapons, other than for hunts planned by the BLM.

Exception for Official Use of Site

Federal, State, and local law enforcement officers, government employees, and BLM volunteers are exempt from these supplementary rules in the course of their official duties. Limitations on the use of motorized vehicles do not apply to emergency vehicles, fire suppression and rescue vehicles, law enforcement vehicles, and other vehicles performing official duties, or as approved by an authorized officer of the BLM.

Penalties

1. Violations of these supplementary rules are punishable as follows: By a sentence of incarceration not more than one year, and a fine as provided by law under 43 U.S.C. 1733 and 18 U.S.C. 3571.

2. You may also be subject to civil action for unauthorized use of the public lands or related waters and their resources, for violations of permit terms, conditions, or stipulations, or for uses beyond those allowed by the permit.

Michael D. Nedd,
State Director, Eastern States.

[FR Doc. 05-14938 Filed 7-27-05; 8:45 am]

BILLING CODE 4310-DQ-P